DEPARTMENT OF DEFENSE

Department of the Army

Privacy Act of 1974; System of Records

AGENCY: Department of the Army, DoD.

ACTION: Notice to amend systems of records.

SUMMARY: The Department of the Army is amending five systems of records notices in its existing inventory of record systems subject to the Privacy Act of 1974, (5 U.S.C. 552a), as amended.

DATES: This proposed action will be effective without further notice on March 9, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

February 1, 2001.
L.M. Bynum,
Alternate OSD Federal Register Liaison Officer, Department of Defense.

A0027 DAJA

System name:

Civil Process Case Files (July 15, 1997, 62 FR 37891).

Changes:

* * * * *

Authority for maintenance of the system:

Add to entry “E.O. 9397 (SSN)”.

* * * * *

Storage:

Delete entry and replace with ‘Paper records and cards in file cabinets and electronic storage media.”

Retention and disposal:

Delete entry and replace with ‘Disposition pending (until NARA disposition is approved, treat as permanent)’.

System manager(s) and address:

Delete entry and replace with ‘Commander, Office of the Judge Advocate, Headquarters, U.S. Army Europe and Seventh Army, Unit 29351, APO AE 09104-0007.”

* * * * *

A0027 DAJA

System name:

Civil Process Case Files.

System location:

Office of the Judge Advocate, Headquarters, U.S. Army Europe and Seventh Army, Unit 29351, APO AE 09014-0007.

Categories of individuals covered by the system:

Military members of the Armed Forces, civilian employees of the U.S. Government, and their dependents upon whom service is made of documents issued by German civil courts, customs and taxing agencies, and other administrative agencies.

Categories of records in the system:

Documents from German authorities regarding payment orders, execution orders, demands for payment of indebtedness, notifications to establish civil liability, customs and tax demands, assessing fines and penalties, demands for court costs or for costs for administrative proceedings summonses and subpoenas, paternity notices, complaints, judgments, briefs, final and interlocutory orders, orders of confiscation, notices, and other judicial or administrative writs; correspondence between U.S. Government authorities and the Federal Republic of Germany; identifying data on individuals concerned; and similar relevant documents and reports.

Authority for maintenance of the system:

10 U.S.C. 3013, Secretary of the Army; Agreement to Supplement the Agreement between the Parties to the North Atlantic Treaty regarding the Status of their Forces with respect to Foreign Forces stationed in the Federal Republic of Germany (NATO Status of Forces Supplementary Agreement); and E.O. 9397 (SSN).

Purpose(s):

To ensure that U.S. Forces obligations under the North Atlantic Treaty Organization Status of Forces Agreement are honored and the rights of U.S. Government employees are protected by making legal assistance available.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to foreign law enforcement or investigatory or administrative authorities, to comply with requirements imposed by, or to claim rights conferred in international agreements and arrangements regulating the stationing and status in Federal Republic of Germany of Defense military and civilian personnel.

Information disclosed to authorities of the Federal Republic of Germany may be further disclosed by them to claimants, creditors or their attorneys.

The DoD “Blanket Routine Uses” set forth at the beginning of the Army's compilation of systems of records notices also apply to this system.

Policies and practices for storing, retrieving, accessing, retaining, and disposing of records in the system:

Storage:

Paper records and cards in file cabinets and electronic storage media.

Retrievability:

By individual's surname.

Safeguards:

All information is maintained in areas accessible only to designated individuals having official need therefor in the performance of their duties. Records are housed in buildings protected by military police or security guards.

Retention and disposal:

Disposition pending (until NARA disposition is approved, treat as permanent).

System manager(s) and address:

Commander, Office of the Judge Advocate, Headquarters, U.S. Army Europe and Seventh Army, Unit 29351, APO AE 09104-0007.

Notification procedure:

Individuals seeking to determine if information about themselves is contained in this record system should address inquiries to the Office of the Judge Advocate General, Headquarters, U.S. Army Europe and Seventh Army, Unit 29351, APO AE 09104-0007.

Individual should provide the full name, rank/grade, service number, sufficient details to permit locating the records, and signature.

Record access procedures:

Individuals seeking access to record about themselves contained in this record system should address inquiries to the Office of the Judge Advocate General, Headquarters, U.S. Army Europe and Seventh Army, Unit 29351, APO AE 09104-0007.

Individual should provide the full name, rank/grade, service number, sufficient details to permit locating the records, and signature.

Contesting record procedures:

The Army's rules for accessing records, contesting contents, and appealing initial determinations are contained in Army Regulation 340-21; 32 CFR part 505; or may be obtained from the system manager.

Record source categories:

From the individual; German authorities; Army records and reports.

Exemptions claimed for the system:

None.

A0195-6 USACIDC

System name:

Criminal Investigation Accreditation and Polygraph Examiner Evaluation Files (July 7, 1997, 62 FR 36269).

Changes:

* * * * *

Categories of individuals covered by the system:

Add to entry “and staff” before “credentials”.

Authority for maintenance of the system:

Add to entry “Army Regulation 195-6, Department of the Army Polygraph Activities”.

* * * * *

Storage:

Delete entry and replace with “Paper records in file folders and electronic storage media.”

Retrievability:

Delete “polygraph certificate number”.

Retention and disposal:

Delete from entry “Polygraph examination report information is retained for 3 years following closure or completion of the pertinent investigative report. Records of approved polygraph examiner certifications are retained at the CRC for 10 years after the examiner retires or is released from active duty, then destroyed by shredding or burning. Records of disapproved polygraph examiner certifications are retained at the CRC for 1 year, then destroyed by shredding or burning.”

* * * * *

A0195-6 USACIDC

System name:

Criminal Investigation Accreditation and Polygraph Examiner Evaluation Files.

System location:

Headquarters, U.S. Army Criminal Investigation Command, 6010 6th Street, Building 1465, Fort Belvoir, VA 22060-5506. Information concerning polygraph examiners is located at the Director, U.S. Army Crime Records Center, U.S. Army Criminal Investigation Command, ATTN: CICR-FP, 6010 6th Street, Building 1465, Fort Belvoir, VA 22060-5585, and subsequently at the Washington National Records Center, GSA, 4205 Suitland Road, Suitland, MD 20746-8001.

Categories of individuals covered by the system:

Applicants for entry into the USACIDC program as an apprentice special agent, a polygraph examiner, for supervisory and staff credentials, for the USACIDC officer specialty program or warrant officer appointments; or for laboratory technician credentials.

Categories of records in the system:

Individual’s application, statement of personal history, personal identifiers, photographs, fingerprint cards, qualifications record, biography, information pertaining to assignment capability or limitation, letters of recommendation, educational institutional documents, character investigation data, reclassification actions, reassignment orders, commander's inquiry data, reports of investigation, reasons for withdrawal from program, reason for denying application, date of acceptance into program, date appointed, date of accreditation, badge number, credential number, polygraph certificate number, agent sequence number, assignment, date assigned, marital status, and other data pertinent to the accreditation function, physical profile, date of last physical, assignment preference, transfer restrictions, job title, security clearance data, date of last background investigation, foreign language proficiency, special qualifications, service agreement, spouse's place of birth and citizenship, agent's place of birth, private licenses, hobbies, and last 10 assignments.

Polygraph examiner performance and evaluation data maintained at the Crime Records Center (CRC) include individual's name, personal history statement, certificate number, polygraph examination history, year of polygraph report, report of investigation or CRC cross reference number, type of examination, and monitor's comments.

Authority for maintenance of the system:

10 U.S.C. 3013, Secretary of the Army; Army Regulation 195-6, Department of the Army Polygraph Activities; and E.O. 9397 (SSN).

Purpose(s):

To determine applicant's acceptance into or rejection from the USACIDC program; continuing eligibility, placement or standing therein; and to manage and evaluate polygraph examination performance.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Paper records in file folders and electronic storage media.

Retrievability:

By individual's surname, agent sequence number, Social Security Number, badge/credential number.

Safeguards:

All records are maintained in buildings protected by security guards or a locked wire enclosure; information is accessed only by designated individuals having official need therefor in the performance of assigned duties.

Retention and disposal:

Records of accepted applicants are retained until the individual retires, is released from active duty, or is removed from the USACIDC program; at that time, files are placed in inactive storage at HQ USACIDC for 2 additional years and then stored at the Washington National Records Center for an additional 8 years before being destroyed by shredding. Records of rejected applicants are retained at HQ USACIDC for 1 year, then destroyed by shredding or burning. Information on Criminal Investigation Program Data Cards is maintained permanently. Information in automated media is retained for 90 days following termination of investigator's active status.

System manager(s) and address:

Headquarters, U.S. Army Criminal Investigation Command, 6010 6th Street, Building 1465, Fort Belvoir, VA 22060-5506.

Notification procedure:

Individuals seeking to determine whether information about themselves is contained in this system should address written inquiries to the Director, U.S. Army Crime Records Center, U.S. Army Criminal Investigation Command, ATTN: CICR-FP, 6010 6th Street, Building 1465, Fort Belvoir, VA 22060-5585.

For verification purposes, individual should provide the full name, Social Security Number, date and place of birth, current address, telephone numbers, date of application to the program, sufficient details to locate the record, and signature.

Record access procedures:

Individual seeking access to information about themselves contained in this system should address written inquiries to the Director, U.S. Army Crime Records Center, U.S. Army Criminal Investigation Command, ATTN: CICR-FP, 6010 6th Street, Building 1465, Fort Belvoir, VA 22060-5585.

For verification purposes, individual should provide the full name, Social Security Number, date and place of birth, current address, telephone numbers, date of application to the program, sufficient details to locate the record, and signature.

Contesting record procedures:

The Army's rules for accessing records, and for contesting contents and appealing initial agency determinations are contained in Army Regulation 340-21; 32 CFR part 505; or may be obtained from the system manager.

Record source categories:

From the individual, individual's previous or present employers, financial institutions, relatives and former spouses, educational institutions, trade or fraternal organizations, neighbors past and present, work associates, social acquaintances, churches, public records, law enforcement and investigative agencies, Army records and reports.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

Evaluation material used to determine potential for promotion in the Military Services may be exempt pursuant to 5 U.S.C. 552a(k)(7), but only to the extent that the disclosure of such material would reveal the identify of a confidential source.

An exemption rule for this system has been promulgated in accordance with requirements of 5 U.S.C. 553(b)(1), (2), and (3), (c) and (e) and published in 32 CFR part 505. For additional information contact the system manager.

A0351 USAREUR

System name:

Individual Academic Record Files (February 22, 1993, 58 FR 10002).

Changes:

* * * * *

System location:

Delete entry and replace with “Commander, Combined Arms Training Center, Unit 28038, APO AE 09112-0100.”

Categories of individuals covered by the system:

Delete entry and replace with “Military or civilian personnel admitted as a student at a course of instruction conducted by the Combined Arms Training Center.”

* * * * *

Storage:

Delete entry and replace with “Paper records in file folders and electronic storage media.”

* * * * *

Retention and disposal:

Delete entry and replace with “Disposition pending (until NARA disposition is approved, treat as permanent).”

A0351 USAREUR

System name:

Individual Academic Record Files.

System location:

Commander, Combined Arms Training Center, Unit 28038, APO AE 09112-0100.

Categories of individuals covered by the system:

Military or civilian personnel admitted as a student at a course of instruction conducted by the Combined Arms Training Center.

Categories of records in the system:

Student’s name, Social Security Number, race, unit of assignment, course quota status, roster number, applicable Army Classification Battery Scores, eligibility for course attendance, academic achievements, awards, and similar relevant data.

Authority for maintenance of the system:

10 U.S.C. 3013, Secretary of the Army and E.O. 9397 (SSN).

Purpose(s):

To determine eligibility for enrollment/attendance, monitor student progress, and record accomplishments for management studies and reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Paper records in file folders and electronic storage media.

Retrievability:

By student's Social Security Number, surname, course/class number.

Safeguards:

Records are maintained in locked rooms, accessible only to designated persons authorized to use in the performance of official duties.

Retention and disposal:

Disposition pending (until NARA disposition is approved, treat as permanent).

System manager(s) and address:

Commander, U.S. Army Europe and Seventh Army, Unit 29351, APO AE 09014-0100.

Notification procedure:

Individuals seeking to determine whether information about themselves is contained in this system should address written inquiries to the Commander, Combined Arms Training Center, Unit 28038, APO AE 09112-0100.

Individuals should provide their Social Security Number, full name, course and class dates of attendance, and signature.

Record access procedures:

Individuals seeking access to information about themselves contained in this system should address written inquiries to the Commander, Combined Arms Training Center, Unit 28038, APO AE 09112-0100.

Individuals should provide their Social Security Number, full name, course and class dates of attendance, and signature.

Contesting record procedures:

The Army's rules for accessing records, and for contesting contents and appealing initial agency determinations are published in the Army Regulation 340-21; 32 CFR part 505; or may be obtained from the system manager.

Record source categories:

From the individual; his/her commander; instructors; Army records and reports.

Exemptions claimed for the system:

None.

A0600 USAREUR

System name:

USAREUR Community Automation System (UCAS) (December 23, 1997, 62 FR 67055).

Changes:

* * * * *

System location:

Delete entry and replace with ‘United States Army Europe and Seventh Army, APO AE 09014-0100, and each United States Army Europe Community. Official mailing addresses are published as an appendix to the Army’s compilation of systems of records notices.’

* * * * *

Authority for maintenance of the system:

Delete entry and replace with ‘10 U.S.C. 3013, Secretary of the Army; Army Regulation 600-8, Military Personnel Management; and E.O. 9397 (SSN)’.

Storage:

Delete entry and replace with ‘Electronic storage media and computer printouts.’

* * * * *

Retention and disposal:

Delete entry and replace with ‘Disposition pending (until NARA disposition is approved, treat as permanent)’.

* * * * *

A0600 USAREUR

System name:

USAREUR Community Automation System (UCAS).

System location:

United States Army Europe and Seventh Army, APO AE 09014-0100, and each United States Army Europe Community. Official mailing addresses are published as an appendix to the Army's compilation of systems of records notices.

Categories of individuals covered by the system:

U.S. Army Europe (USAREUR) and Seventh Army military and civilian members and their dependents.

Categories of records in the system:

Name, Social Security Number, command and unit of assignment, military occupational skill, sex, date of birth, date eligible to return from overseas, basic active service date, pay entry basic date, expiration term of service, date of rank, rank/grade, promotion status, citizenship, marital status, spouse's Social Security Number (For military spouse), insurance and beneficiary data for Department of Defense Form 93 (Record of Emergency Data) and Department of Veterans Affairs Form 29-8286 (Serviceman's Group Life Insurance Election) completion in an automated format (DD Form 93-E and SGLV Form 8286-E), address, work and home telephone numbers, type of tour, dependent status and relationships, marriage data, type and date of cost of living allowance, port call date, departure date and order number, exceptional family member status, household goods/hold baggage, vehicle-shipment dates/destinations/weights.

Authority for maintenance of the system:

10 U.S.C. 3013, Secretary of the Army; Army Regulation 600-8, Military Personnel Management; and E.O. 9397 (SSN).

Purpose(s):

The primary purpose of UCAS is to provide a central database containing all information required to in-process or out-process individuals within a USAREUR community. This data base is shared among five community work centers that need information on arriving and departing personnel. These work centers, the Central Processing Facility, Personnel Services Company, Finance Office, Housing Office and the Transportation Office, have access to certain portions of the UCAS data base. Data base information updates made by each work center are shared by all work centers that need the information. The centralized data base reduces in-processing and out-processing time since individuals no longer need to furnish the same information at each work centers.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The DoD “Blanket Routine Uses” set forth at the beginning of the Army's compilation of systems of records notices also apply to this system.

Policies and practices for storing, retrieving, accessing, retaining, and disposing of records in the system:

Storage:

Electronic storage media and computer printouts.

Retrievability:

By Social Security Number, name, or other individual or group identifier.

Safeguards:

Physical security devices, computer hardware and software security features, and personnel clearances for individuals working with the system. Automated media and equipment are protected by controlled access to computer rooms.

Retention and disposal:

Disposition pending (until NARA disposition is approved, treat as permanent).

System manager(s) and address:

Commander, 2d Signal Brigade, USAREUR Community Automation System Project Manager, Unit 29227, APO AE 09024-0100.

Notification procedure:

Individuals seeking to determine whether information about themselves is contained in this system should address written inquiries to the Commander, 2d Signal Brigade, USAREUR Community Automation System Project Manager, Unit 29227, APO AE 09024-0100.

Individuals should provide sufficient details to permit locating pertinent records, such as full name, Social Security Number, and current address. Request must be signed by individual.

Record access procedures:

Individuals seeking access to records themselves contained in this record about system should address written inquiries to the Commander, 2d Signal Brigade, USAREUR Community Automation System Project Manager, Unit 29227, APO AE 09024-0100.

Individual should provide sufficient details to permit locating pertinent records, such as full name, Social Security Number, and current address. Request must be signed by individual.

Contesting record procedures:

The Army's rules for accessing records, and for contesting contents and appealing initial agency determinations are contained in Army Regulation 340-21; 32 CFR part 505; or may be obtained from the system manager.

Record source categories:

From the individual; Army records, reports and other official documents; Army Standard Automated Management Information Systems.

Exemptions claimed for the system:

None.

A0600-8 USFK

System name:

Command Unique Personnel Information Data System (CUPIDS) (February 22, 1993, 58 FR 10002).

Changes:

* * * * *

Storage:

Delete entry and replace with “Electronic storage media, microfiche, and computer/paper printouts.”

* * * * *

Retention and disposal:

Delete entry and replace with “Disposition pending (until NARA disposition is approved, treat as permanent).”

* * * * *

A0600-8 USFK

System name:

Command Unique Personnel Information Data System (CUPIDS).

System location:

Headquarters, U.S. Forces, Korea/Eighth U.S. Army, APO AP 96205-0010.

Categories of individuals covered by the system:

Members of U.S. Forces, Korea and Eighth U.S. Army, their dependents, U.S. Embassy employees, contract personnel, technical representatives, and individuals who are assigned to or under the jurisdiction or administrative control of the U.S. Army who make purchases of controlled items from authorized resale activities in Korea.

Categories of records in the system:

Individual's name, Social Security Number, date and place of birth, sex, citizenship, date arrived in and previous tours in the Republic of Korea, rotation date, service component, pay grade/position, marital status, dependency status, selected skill specialties; sales slips and control sheets used in sales of controlled items by U.S. Forces; overspending/over purchase printouts produced by central computer facilities.

Authority for maintenance of the system:

10 U.S.C. 3013, Secretary of the Army; Status of Forces Agreement, United States of America and the Republic of Korea; and E.O. 9397 (SSN).

Purpose(s):

Information is used for personnel management, strength accounting, manpower management, and contingency planning and operations; to assist commanders and U.S. Armed Forces investigative agents in monitoring purchases of controlled items; to produce ration control plates for authorized users; to maintain record of selected controlled items purchases at retail facilities and suspected violators of the system; and to comply with Joint Service black-market monitoring control policy.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: Information required for noncombatant evacuating planning and statistical studies by U.S. Forces Korea; to provide a source document for production of ration control plate. The DoD “Blanket Routine Uses” set forth at the beginning of the Army's compilation of systems of records notices also apply to this system.

Policies and practices for storing, retrieving, accessing, retaining, and disposing of records in the system:

Storage:

Electronic storage media, microfiche, and computer/paper printouts.

Retrievability:

By surname of noncombatants; by Social Security Number of all others.

Safeguards:

Records are accessible only to authorized personnel. During non-duty hours, the facility is locked and secured.

Retention and disposal:

Disposition pending (until NARA disposition is approved, treat as permanent).

System manager(s) and address:

Commander, U.S. Forces Korea/Eighth U.S. Army, APO AP 96205-0010.

Notification procedure:

Individuals seeking to determine whether information about themselves is contained in this system should address written inquiries to the Commander, U.S. Forces Korea/Eighth U.S. Army, APO AP 96205-0010.

Individual should provide the full name, Social Security Number, and military status or other information verifiable from the record itself.

Record access procedures:

Individuals seeking access to information about themselves contained in this system should address written inquiries to the Commander, U.S. Forces Korea/Eighth U.S. Army, APO AP 96205-0010.

Individual should provide the full name, Social Security Number, and military status or other information verifiable from the record itself.

Contesting record procedures:

The Army's rules for accessing records, and for contesting contents and appealing initial agency determinations are contained in Army Regulation 340-21; 32 CFR part 505; or may be obtained from the system manager.

Record source categories:

From the individual; Army records and reports.

Exemptions claimed for the system:

None.

[FR Doc. 01-3141 Filed 2-6-01; 8:45 am]

BILLING CODE 5001-10-U